DEPARTMENT OF COMMERCE

National Oceanic and Atmospheric Administration

RIN 0648-XA848

Endangered Species; File No. 16134

AGENCY: National Marine Fisheries Service (NMFS), National Oceanic and Atmospheric Administration (NOAA), Commerce.

ACTION: Notice; receipt of application.

SUMMARY: Notice is hereby given that Virginia Aquarium and Marine Science Center Foundation [Responsible Party: Mark Swingle], 717 General Booth Blvd. Virginia Beach, VA 23451, has applied in due form for a permit to take green (Chelonia mydas), Kemp's ridley (Lepidochelys kempii), hawksbill (Eretmochelys imbricata), leatherback (Dermochelys coriacea), and loggerhead (Caretta caretta) sea turtles for purposes of scientific research.

DATES: Written, telefaxed, or email comments must be received on or before January 9, 2012.

ADDRESSES: The application and related documents are available for review by selecting “Records Open for Public Comment” from the Features box on the Applications and Permits for Protected Species (APPS) home page, https://apps.nmfs.noaa.gov, and then selecting File No. 16134 from the list of available applications.

These documents are also available upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

Written comments on this application should be submitted to the Chief, Permits and Conservation Division.

• By email to NMFS.Pr1Comments@noaa.gov (include the File No. in the subject line of the email),

• By facsimile to (301) 713-0376, or

• At the address listed above.

Those individuals requesting a public hearing should submit a written request to the Chief, Permits and Conservation Division at the address listed above. The request should set forth the specific reasons why a hearing on this application would be appropriate.

FOR FURTHER INFORMATION CONTACT: Kristy Beard or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a five-year permit to conduct research on leatherback, loggerhead, green, hawksbill, and Kemp's ridley sea turtles in mid-Atlantic waters from North Carolina to New Jersey. The purposes of the research are to: (1) Update current knowledge of loggerhead and Kemp's ridley sea turtle abundance, distribution, health, and nutrition in Chesapeake Bay and nearshore Virginia waters, (2) compare the relative abundance, size distribution, sex ratio, health parameters and genetic diversity of loggerhead and Kemp's ridley sea turtles in U.S. mid-Atlantic coastal waters, and (3) build baseline data on less common sea turtle species in the region. Researchers would directly capture turtles using tangle nets, trawl, or hand/dip net. Subject turtles would also be acquired from other legal sources: Virginia pound net fisheries and dredge mitigating trawls. The following procedures would be conducted on sea turtles: Epibiota removal, satellite tag, temporarily mark the carapace, attach flipper and passive integrated transponder tags, measure, photograph, oral swab, weigh, and sample blood, feces, keratin, and tissue. Sea turtles would then be released. A subset of animals would be transported back to the laboratory for laparoscopy, ultrasound, imaging, and muscle, lesion, and fat biopsy. Up to two sea turtles of any species could be lethally taken annually during trawling.

Dated: December 5, 2011.
P. Michael Payne,
Chief, Permits and Conservation Division, Office of Protected Resources, National Marine Fisheries Service.

[FR Doc. 2011-31671 Filed 12-8-11; 8:45 am]

BILLING CODE 3510-22-P